NUCLEAR REGULATORY COMMISSION

10 CFR Part 72

Licensing Requirements for the Independent Storage of Spent Nuclear Fuel, High-Level Radioactive Waste, and Reactor-Related Greater Than Class C Waste

CFR Correction

This rule is being published by the Office of the Federal Register to correct an editorial or technical error that appeared in the most recent annual revision of the Code of Federal Regulations.

In Title 10 of the Code of Federal Regulations, Parts 51 to 199, revised as of January 1, 2025, in § 72.214, Certificate of Compliance No. 1004 is revised as set out in amendatory instruction 2, published at 88 FR 67934, Oct. 3, 2023.

[FR Doc. 2025-09090 Filed 5-19-25; 8:45 am]

BILLING CODE 099-10-D